NUCLEAR REGULATORY COMMISSION

[Docket Nos. 50-269, 50-270, and 50-287; NRC-2021-0146]

Duke Energy Carolinas, LLC; Oconee Nuclear Station, Units 1, 2, and 3; Final Site-Specific Environmental Impact Statement

AGENCY: Nuclear Regulatory Commission.

ACTION: Notice; issuance.

SUMMARY: The U.S. Nuclear Regulatory Commission (NRC) has published a final site-specific environmental impact statement (EIS), issued as NUREG-1437, Supplement 2, Second Renewal, “Site-Specific Environmental Impact Statement for License Renewal of Nuclear Plants Regarding Subsequent License Renewal for Oconee Nuclear Station, Units 1, 2, and 3, Final Report.” This EIS evaluates, on a site-specific basis, the environmental impacts of subsequent renewal of Renewed Facility Operating License Nos. DPR-38, DPR-47, and DPR-55 for an additional 20 years of operation for Oconee Nuclear Station, Units 1, 2, and 3 (Oconee Station), respectively. Oconee Station is located in Seneca, South Carolina, approximately 30 miles west of Greenville. Possible alternatives to the proposed action of subsequent license renewal for Oconee Station include the no-action alternative, a new nuclear alternative, a natural gas combined-cycle alternative, and a combination alternative.

DATES: NUREG-1437, Supplement 2, Second Renewal, is available as of February 3, 2025.

ADDRESSES: Please refer to Docket ID NRC-2021-0146 when contacting the NRC about the availability of information regarding this document. You may obtain publicly available information related to this document using any of the following methods:

• Federal Rulemaking Website: Go to https://www.regulations.gov and search for Docket ID NRC-2021-0146. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 2, Second Renewal, is available in ADAMS under Accession No. ML25031A307.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: NUREG-1437, Supplement 2, Second Renewal, will be available for public inspection at the Oconee County Public Library, 300 E South 2nd St., Seneca, SC 29678.

FOR FURTHER INFORMATION CONTACT: Lance J. Rakovan, Office of Nuclear Material Safety and Safeguards, U.S. Nuclear Regulatory Commission, Washington, DC 20555-0001; telephone: 301-415-2589; email: Lance.Rakovan@nrc.gov.

SUPPLEMENTARY INFORMATION:

I. Background

In accordance with section 51.118 of title 10 of the Code of Federal Regulations, “Final environmental impact statement—notice of availability,” the NRC is making available for public inspection site-specific NUREG-1437, Supplement 2, Second Renewal, regarding the subsequent renewal of Duke Energy Carolinas' (Duke Energy) Renewed Facility Operating License Nos. DPR-38, DPR-47, and DPR-55 for an additional 20 years of operation for Oconee Station. A notice of availability of the site-specific draft of NUREG-1437, Supplement 2, Second Renewal, was published in the Federal Register on February 13, 2024, by the NRC (89 FR 10107) and on February 16, 2024, by the Environmental Protection Agency (89 FR 12335). The public comment period on the draft site-specific EIS ended on April 1, 2024, and the comments received are addressed in the final EIS.

II. Discussion

As discussed in Chapter 4 of NUREG-1437, Supplement 2, Second Renewal, the NRC staff's recommendation is that the adverse environmental impacts of subsequent license renewal for Oconee Station for an additional 20 years beyond the expiration dates of the initial renewed licenses are not so great that preserving the option of subsequent license renewal for energy-planning decisionmakers would be unreasonable. This recommendation is based on: (1) Duke Energy's environmental report, as supplemented; (2) the NRC staff's consultations with Federal, State, Tribal, and local government agencies; (3) the NRC staff's independent environmental review, which is documented in NUREG-1437, Supplement 2, Second Renewal; and (4) the NRC staff's consideration of public comments.

Dated: February 4, 2025.
For the Nuclear Regulatory Commission.
John Moses,
Deputy Director, Division of Rulemaking, Environmental, and Financial Support, Office of Nuclear Material Safety and Safeguards.

[FR Doc. 2025-02369 Filed 2-6-25; 8:45 am]

BILLING CODE 7590-01-P